DEPARTMENT OF THE TREASURY

Office of Thrift Supervision

Submission for OMB Review; Comment Request—Fiduciary Powers of Federal Savings Associations

AGENCY: Office of Thrift Supervision (OTS), Treasury.

ACTION: Notice and request for comment.

SUMMARY: In accordance with the requirements of the Paperwork Reduction Act of 1995 (44 U.S.C. 3507), OTS may not conduct or sponsor, and the respondent is not required to respond to, an information collection unless it displays a currently valid OMB control number. Today, OTS is submitting proposed revisions to this collection of information to OMB for review and approval.

DATES: Submit written comments on or before October 23, 2006.

ADDRESSES: Send comments, referring to the collection by title of the collection or by OMB approval number, to OMB and OTS at these addresses: Office of Information and Regulatory Affairs, Attention: Desk Officer for OTS, U.S. Office of Management and Budget, 725-17th Street, NW., Room 10235, Washington, DC 20503, or by fax to (202) 395-6974; and Information Collection Comments, Chief Counsel's Office, Office of Thrift Supervision, 1700 G Street, NW., Washington, DC 20552, by fax to (202) 906-6518, or by e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: For further information or to obtain a copy of the submission to OMB, please contact Marilyn K. Burton, OTS Clearance Officer, at marilyn.burton@ots.treas.gov, (202) 906-6467, or facsimile number (202) 906-6518, Litigation Division, Chief Counsel's Office, Office of Thrift Supervision, 1700 G Street, NW., Washington, DC 20552.

SUPPLEMENTARY INFORMATION: OTS may not conduct or sponsor, and respondents are not required to respond to, an information collection, unless the information collection displays a currently valid OMB control number. As part of the approval process, we invite comments on the following information collection.

Title of Proposal: Fiduciary Powers of Federal Savings Associations.

OMB Number: 1550-0037.

Form Number: OTS Form 1240.

Regulation requirement: 12 CFR 550.70(a), (b), and (c); 12 CFR 550.80 through 120; 12 CFR 550.125.

Description: OTS must know when a Federal savings association is acting in a fiduciary capacity in order to establish effective oversight of those activities. This comment request addresses revisions to OTS Form 1240— Application for Fiduciary Powers. The form is being revised to update the information OTS requires in order to make a determination whether to approve or deny an application for fiduciary powers.

12 CFR 550.70(a) requires that a Federal savings association that wants to conduct fiduciary activities for the first time, and for which OTS has not previously approved an application submitted under this part, must obtain prior approval from OTS before it may conduct the activities. 12 CFR 550.70(b) requires that a Federal savings association that wants to conduct fiduciary activities that are materially different from the activities that OTS has previously approved for it, including fiduciary activities that OTS has previously approved that have not been exercised for at least five years, must obtain prior approval from OTS before it may conduct the activities. 12 CFR 550.80 through 120 describe the process for obtaining OTS approval of the application for fiduciary powers. Instructions for filing the application are found at 12 CFR part 516, subpart A.

In addition, § 550.70(c) of OTS's regulations requires that a Federal savings association that wants to commence in new State fiduciary activities that are not materially different from those that OTS has already approved, must file a notice with OTS. Instructions for filing the notice are found at 12 CFR 550.125.

On April 28, 2006, OTS published a notice of its intent to revise this information collection (71 FR 25281). No comments were received.

Type of Review: Revision.

Affected Public: Federal savings associations.

Estimated Number of Respondents: Application—12 respondents; Notice—10 respondents.

Estimated Number of Responses: Application—12 respondents; Notice—10 respondents.

Estimated Burden Hours per Response: Application—27 hours; Notice—3 hours.

Estimated Frequency of Response: Event-generated.

Estimated Total Burden: 354 hours.

Clearance Officer: Marilyn K. Burton, (202) 906-6467, Office of Thrift Supervision, 1700 G Street, NW., Washington, DC 20552.

OMB Reviewer: Desk Officer for OTS, fax: (202) 395-6974, U.S. Office of Management and Budget, 725-17th Street, NW., Room 10235, Washington, DC 20503.

Dated: September 18, 2006.
Deborah Dakin,
Senior Deputy Chief Counsel, Regulations and Legislation Division.

[FR Doc. 06-7970 Filed 9-21-06; 8:45 am]

BILLING CODE 6720-01-P